DEPARTMENT OF THE TREASURY

Internal Revenue Service

Quarterly Publication of Individuals, Who Have Chosen to Expatriate

AGENCY: Internal Revenue Service (IRS), Treasury.

ACTION: Notice.

This notice is provided in accordance with IRC section 6039G of the Health Insurance Portability and Accountability Act (HIPPA) of 1996, as amended. This listing contains the name of each individual losing United States citizenship (within the meaning of section 877(a) or 877A) with respect to whom the Secretary received information during the quarter ending December 31, 2021. For purposes of this listing, long-term residents, as defined in section 877(e)(2), are treated as if they were citizens of the United States who lost citizenship.

Last name | First name | Middle name/initials
ABELA | RONALD
ABERCROMBIE | STUART | CHRISTOPHER
AFFONSO | ANA | LUIZA TORREALBA
AHMED | RUMMAN
AHN | EUNSOOK
AKIYAMA | SANAE
ALAZET | ANNE-EMMANUELLE | M
ALEXANDER | JAN
AMBELANG-KLAUSS | ANGELIKA
ANDERSON | CARL | L
ANDERSON | DONNA | MARGARET
ARORA | DEEPALI
ARTS | HERMANUS | M
ASABUSHI | YUKO
ATA | FUJIKO
ATA | HISASHI
ATKINSON | HELEN | MARY
BALLON | NAOMI | LYNN
BASHAM | CURTIS | J
BASSAN | EUGENIO
BELL | THOMAS
BENNING | RUPAL | SINGH
BERG | CHRISTER | BENGT
BHATIA | RINA
BHOJWANI | GAUTAM | JAIKIRSHIN
BIKOV | ARKADI | HASKEL
BIORNSTAD-FARNUNG | CARIN | LILLY
BIRCH | SIMON | JAMES
BODHANKAR | RUPALI | VITHALRAO
BONOMINI | MARIA | TERESA
BOSSE | CHRISTIAN
BOTTELIER | BEATRIZ | B M
BOUZIANE | YASMINA | GHIZLAINE
BOWDEN | ALISON | M
BOWER | ROBERT | GEORGE
BOWIE | DAWN | ADRIENNE
BOWIE | ROBERT | ALEXANDER
BOYD | PETER | G
BOZ | YAKUP | CEKI
BRANDER | DAVID | ROSS
BRIANCON | MICHELE | JACQUELINE
BRIERE | DYANNE
BRIERE | JEAN | CHARLES
BROWN | ALEXANDRA
BROWN | GARRY | L
BRUN | LOUIS | GEORGES HERVE
BRYERS | NORMAN | PAUL
BUDASHEWITZ | SAYAKA
BURGESS | DANIEL | ROBERT
BURGESS | LYNN | IDA INKERI
BUSTAMANTE | DANIEL
CALLEBAUT | LUC | RENE
CAMRASS | JULIA
CANNAN | JUANITA | EUNICE
CARDELLI | LUCA | ANDREA
CARO | PATRICIA
CARTER | KENNETH
CARTER | LINDA | RAE
CASTELLANI | MARGHERITA
CELEN | CEYLAN
CELZO | FROILAN | GONZALES
CHALLAGULLA | SARITA
CHAN | WING | KUEN
CHATTOPADHYAYA | ARUNDHATI | MURDESHWAR
CHEN | JAN | KU
CHEN | KAN
CHENG | PAN | PATRICIA
CHIA | EELAN | GERALDINE
CHIANG | CHIH | FENG
CHIN | EDWIN | K
CHIU | CHANEL | MUN LUM
CHO | SOO | HYUN
CHONG | JIAYI
CHOUDHARY | HEERALAL
CHUNG | CHANYOUNG
CHUNG | YEONSEOK
CONNOLLY | JOSEPH | W
CONVERS | PASCAL | BERNARD
COOK | JANE | NICOLA
CORK | FRANCES | MARGARET
COSSARINI | SANDRA | LYNNE
CREED | RICHARD | ZACHARY
CUFF | RACHEL | SUSANNA
CUI | JINGHUI
CUMMINS | TIMOTHY | D
CURRAN | JOHN | WILLIAM
CURRAN | KAORI
CURRAN | MIYAKO | EMILY
CZERANKO | SUSSANNA | CYNTHIA
DAMOISEAUX | KATINKA | AGNES
DAMOISEAUX | MICHAEL | JOZEF
DAN | TOMIKO
DARLING | NEIL | MURRAY
DARROCH | JAMES | ALEXANDER
DAWSON | BRAM | EUGENE
DAWSON | JOHN | ANDREW
DE VRIES | ROSA | LEONORA ANDREA
DEAN | LYNDSEY | KATE
DELGADO | GIEDRE
DEMBECKA-MORGAN | JOANNA | M
DICKSON | ALEXANDER | GEORGE
DIESER | CHRISTINA | H
DING | QIAN
DOBBELSTEIJN | FRANK | PIETER JOZEF
DOEGLAS | ALEXANDRA | A
DOI | KAZU
DONOS | CHRISTINA
DOUFOU | PERCEFONI | GEORGIOS
DOWLING | TIFFANY | ADELE
DRESSO | PAOLA | MARIA
DU | FANGYONG
DUBASH | ARDASHIR | BURJOR
DYCK | LESLIE | H
DYCK | WAYNE | D
ECHEVERS | REBECCA | MERCEDES
EDWARDS | CHRISTEL | MARIA
EMMERS | TOMAS | JAN EDMOND
ESCALANTE | ROBERTO | L
ESCAMILLA | HIROKO
FABIAN | CHRISTIAN | KLAUS
FALCON | ANNE | HOMMELGAARD
FARRELL | STEPHEN | FRANCIS
FELTEN | EMMA | J
FINNEGAN | KEITH | J
FISHER | DONALD | ROBERT
FREDRICKS | ERIKO
FRIBERG | ANNA | KARI HELENA
FRIBERG | PER | ERIC
FROHBERG | JOBST | HERBERT
FUKUDA | NARUMI
GALARCE | ALBERTO | CESAR
GALARCE | GIGLIA | MARIA
GALLAGHER | JOHN | HARRIS
GALLANAGH | EUGENE | PATRICK
GALLAND | VIOLAINE
GAY | ANDREW
GAY | JANETTE | MARIE
GEORGE | ANDREW
GIJSEN | JORRIT | JACOB ANDRE
GILBERT | BRETT | DAVID
GILBERT-RAMIREZ | KAREN | MARIA
GINSBERG | SIMON
GINTER | THOMAS | STEPHEN
GOLDSMITH | GEOFFREY | C
Gore | Sujata | DHANANJAY
GRANT | THOMAS | M
GREVE | TODD
GRIFFITHS | SIAN | LOUISE
GUILBERT | MURIEL
GUST | SCOTT | WILLIAM
HALAND | ANN | KATRIN
HANRAHAN | GERALD | CYRIL
HARADA | NORIKO
HARDING | PAUL | NELSON
HARRINGTON | THOMAS | BERNARD
HASSENSTEIN | CHARLOTTE | URSULA
HAYASHI | TOMOHIDE
HEAD | NICHOLAS | DAVID
HENSCHEL | EMMA | M.
HERPERGER | DUANE | STEVEN
HERROU | JULIEN
HICKEY | MARK
HILBERT | GASTON | ANTOINE
HILBERT | SABINE
HILL | SANDRA | CHRISTINE
HILTI | BIRGIT
HISASHIGE | REIKO
HOELZER | JOACHIM | WILFRIED
HOFMAN | ADRIANA | P
HOFMAN | MARINLIS | C
HOLST | TOROD | PETER
HORIKAWA | MOTOZO
HOW | ANGELA | SIEW BING
HOWARD | JOHN | JAMES
HUANG | JUN
HUANG | TZU | LING
HUNG | MIN | YING
HUNTER | SARAH | MARGARET
ICHIKAWA | FUMIYO
IDE | YUTAKA
IKEHATA | MIEKO
IKEHATA | NAOAKI
INABA | YOSHIMITSU
INNIS | JENNIFER | ANNE
INOUE | MARIKO
INSUASTY | JORGE | HUMBERTO
ISHIZU | FUMIKO
ISHIZU | YOSHIAKI
ITO | CHIZUKO
ITO | TSUTOMU
ITOZU | MORIO
ITOZU | SANAE
JACK | NANCY | A
JACKSON | BARBARA | MARY
JACOBSEN | LORI | HELEN
JASIM | ZAID | F
JIM | HENRY
JO | YEONG | SEOP
JOERNLID | HANS | F
JOHANSSON | ANETTE | MARGARETA
JONES | DARYN | MICHAEL
JONES | GHAZALA | ROOHI SATAR
JONES | MARTYN | RICHARD
JOSI | CLAUDIA | DANIELA
JURJAHN | STEPHAN
KAHRA-WUESTEMANN | VIVIAN | BRITT
KALASKAR | RAHUL
KAMIDE | MICHIKO
KAPSI | ROGER
KARIM | ZAHEED | SADRUDIN
KASHIMA | KAORL
KASTNER | ELSA | M
KATAYAMA | YOSHITO
KATSUI | TOMIO
KAWAKAMI | TAKAYOSHI
KEATING | TAMARA | A
KEITEL | JUERGEN
KELLY | SANDRA | DOMINGUES
KELLY-RABOLT | SHERI | LOUISE
KESZEI | MARTON
KEW | ANTONI | JASON
KIKUCHI | HIDEMI
KIM | HEE | KYUNG
KIM | MANDEUK
KIM | SE | IL
KIMOTO | HIROSHI
KIMOTO | MIHO
KIMURA | ETSUKO
KIND | ADAM | L JAZHWAN
KIND | AGNES | M INGEBORG
KIND | ANNA | M KRISTINA
KIPFERLER | ARTHUR | WILLI
KITABAYASHI | KAZUYA
KNAUSS | ZENIJA
KOCHMANN | DENNIS | MICHAEL
KOKUBO | CHIKAKO
KOKUBO | KAZUO
KOMARAGIRI | VIHARI | VENKATA
KROL | ANTONIA | H
KRUAKANOK | JITTRAPORN
KUBOTA | CHINAMI
KUME | NANA | HASEGAWA
LALIBERTE | WENDELIN | C
LALONDE | DANIEL | ALEXIS
LAMBERS | REMCO | ERWIN
LAMBIE | TIMOTHY | J.
LAMY | LOUISE | MATHILDE
LEE | BYUNG | KAG
LEE | JOON | HYUNG
LEE | SANGSIK
LEE | YUI-WAH
LEECH | SUSAN | MARY
LEFEBVRE | CHANTAL
LEINEWEBER | JOERG
LENAERTS | ANNE | JOZEF MARIA AGNES
LEONG MA | LI
LEPPARD | JEANNE | CHRISTINE
LESUFFLEUR | ANTOINE | DANIEL EMMANUEL
LEVY | KATYA
LI | BIN
LI | FANGHONG
LI | WENYU
LIAO | SHIRLEY | H
LIPCHIN | JUDD
LIU | HUI
LIU | QUANYING
LIVAR | NICOLE | FRANCOISE
LLOYD | JENNIFER | HELEN
LLOYD | MATTHEW | DAVID
LLOYDS | SALLY | ANN
LODGE | ANDREW | STEPHEN
LOVASZ | AGNES | EDIT
LOWE | WILLIAM
LUENEBURGER | ANNE | ELISABETH
LUX | MATTHIAS
MACDONALD | DOUGLAS | ALAN
MACDONALD | SALAMAH
MACHIDA | YOSHIDA
MAEDA | TOMIO
MAGNAY | SCOTT | TROY
MALFITANI | ALEXANDRE | W
MALLON | MONIQUE | E
MANGAT | INDERJIT | SINGH
MANGAT | SURINDER | R
MANSION | BENJAMIN | M
MANSUKHANI | MARTIN
MAO | KEVIN | JIA YU
MARTINEZ ANGLES | VICTOR | MANUEL
MASUDA | YURI
MATHUKUMALLI | VIDYASAGAR
MAWANI | ZAHEED
MAXTED | BRIAN | F
MAXTED | HELVI | T
MCDONALD | THOMAS | ALEXANDER
MCKEAN | GERALDINE | ELIZABETH
MCKEAN | IAN
MCTAGGART | BETTY | ANN
MCTAGGART | ROY | FORTUNE
MEAKIN | DOUGLAS | BOYD
MELANCON | PAUL | RICHARD
MENADZHIEV | VADIM | TIMUROVICH
MESHORER | TALI
MESHORER | YOAV
METZLER | PATRIZIA
MINE | SUSUMU
MINE | YUMIKO
MIRANDA | DAVINA
MITSUMOTO | MASAKI | M
MOHAN | UDAY
MOOLENAAR | DENNIS | NORBERTUS
MORE | HEATHER | DIANE
MORIKAWA | ATSUKO
MORRIS | CHRISTINA | JANE
MOSES | IAN | WARWICK
MULCHANDANI | SIDDARTH | J
MUNECHIKA | ROGER | MINORU
MUNRO | LYNNE | J
MURALIDHAR | SRIKANTAIAH
MURPHY | BRIAN | GERARD
MUSHKIN | STANISLAV
NAGATA | KANAKO
NAGY | GYULA | JOZSEF
NAH | GIN | BENG
NAKAMURA | YUSUKE
NEBE | PATRICIA | SANDRA
NEBE | THOMAS
NEMOTO | JUMPEI
NEVE DE MEVERGNIES | CHARLOTTE | X
NG | YONG | HOON
NICCOLLS | LUKE | LLOYD CAMERON
NICKEL | JUDITH
NISHAR | DEVANGI
NOBLE | MARY | I
NOBS | STEFAN | LOTHAR
NOGUCHI | SACHIE
NOLET | ROBERT | WILLEM
NOMOTO | KAZUYUKI
NOZAKI | HDETOSHI
NOZAWA | SHINOBU
OH | JAE-HYUK
OKIYAMA | TAKAKO
OKSAY | TAMER | M
OLSEN | JANE | J
OM | KISUN | SUN
ONG | MATILDA | CHAI MEI
ONOSE | MASAYUKI
ONOSE | TOWAKO
ORUI | CHIAKI
ORUI | TSUKASA
OSHIMA | KUNIO
OSHIMA | SACHIKO
OTANI | SHIE
OTEVREL | TOMAS
OTSUBO | AKIO
OTSUKA | TAKEO
PALANISAMY | SIVASALAPATHY
PASSEY | DEBORAH | L
PATTERSON | BOOJA | KIM
PAYER | ANNA | BARBARA
PAYER | MATHIAS | JOSEF
PEASE | SANDRA
PEH | WEI | SIN
PERRY | DANIEL | JOSEPH
PETRECCA | FRANK
PHIMSTER | TAKEKO
PIERCE | BEVERLY | DALE
PIGEON | JEAN
PITRE | EVELYN
PIVRNEC | JAN
POOLIS | CERYS | EMILLIA
POWELL | MICHAEL
PRICE | CATHERINE | JOYCE
PRINGLE | CAROLINE | ALEXANDRA
PRISMAN | DESIREE
PULLEN | CURTIS | IVAN
QIAO | XIAO | JUN
QUAN | DEREK | SAI WAI
RANGASAMY | SAMPOORNAM
REICHLE | FLORENCE | SWEE LOON
RILEY | NICHOLAS | C
ROBERTSON | ALEXANDER | R
ROBERTSON | ANGUS | D
ROBINSON | NATASHA
ROBINSON | SHAUN | A
RODINA | HERTA
ROELS | GUILLAUME | YVES MARIES
RONTANI | DAMIEN | JEAN XAVIER
ROSS | DAVID | JOHN
ROZATI | MOHAMMAD | MASOUD
RUGGERO | MARIO | ALFREDO
RUSSELL | JUNKO | TOGO
RYALI | SATHYAVATHI
SAHAKIAN | TALIN
SAJNANI | SHEREEN | MOHAN
SAKANO | IZUMI
SALIM | SONIA
SAMURA | AI
SAMURA | KEI
SASAHARA | ATSUSHI
SAYEGH | BACHIR | CARL RAYMOND
SCARCELLA | DAVID | L. A.
SCHLEICH | DAVID | JOHN
SCHRAMKE | JAN | R
SCOTT | COLIN | THOMAS
SCOTT | PATRICIA | FAY
SHARPE | DAVID | G
SHELBOURNE | KAREN | MARY
SHELBOURNE | RALPH | PETER
SHERRINGTON | SIMON | RICHARD
SHIKA | YASUO
SHIMADA | KEIKO
SHIMIZU | MASAKO
SHIN | HEE | KYUNG
SHINOHARA | TOYOHIRO
SHINOSE | TAKAAKI
SHINOSE | TAMAKI
SHIRAYA | EMIKO
SHISHKOV | ANGEL | KOSTADINOV
SIDHU | NAIB | SINGH
SILVER | SUSAN | CAROLINE
SIMMLER | CHARLOTTE | REBECCA MARIE
SIMON | ELISHEVA | L
SIMON | PIERRE | MICHEL GERMAIN RAYMOND
SINGH | AVINASH | C
SOH | JANE | JIAYING
SOLLIE | DIRK | CLEMENT CELINE
SONGHURST | CHARLES | MAXIM
SRINIVASAN | VIGNESH
ST PIERRE | MELANIE
STAGGERS | OLIVIA | ANNE
STANANOUGHT | COLIN
STANANOUGHT | LESLEY | J
STEWART | CHARLES | GRAHAM
STRAPOC | DARIUSZ | JERZY
STREET | PENELOPE | JANE
STUCKENBERGER | ANJA | NICOLE
SUNG | PUI | LING ADA
SWEDBERG | RICHARD | HANS ALBIN
TALBOT | PAMELA | S
TAMMANA | PRAVEEN | K
TAMURA | KEIKO
TAMURA | MORIYUKI
TAMURA | TOMOKO
TAN | TAT | YAN
TAYLOR-THEOBALDS | SONIA | M
THOMAS | TRACEY | HEATHER
TILLEY | JANETTE | M
TREASURYVALA | SHENAZ | HOMI
TRITT | YOSHIE
TROESCH | SEVERIN | T
TRUTCH | KENNETH | J
TSUCHIDA | TAKUO
TU | HSIU | CHEN
TURLEJ | KRZYSZTOT
UCHIDA | TOMOKO
UJII | KENJI
UJII | YOKO
VAISH | ANJU | DAVE
VAISH | SANJUL
VAN ANDERS | SARI | MICHELLE
VAN DEN BERG | GERARDUS | HENDRIKUS JOHANNES
VAN DEN ELZEN | HENRIETTE | WILHELMINA
VAN WEZEL | WOUTER | WILLIAM
VASILEV | TANJA
VELDMAN | JEREMY | JOHN
VEMER | HENDRICUS | MARIA
VESSEY | MERIEL | CATRIN
VICAT-BLANC | PASCALE | AMI
VISINI | BETTINA
VOGEL | ANNE
VON DER HUDE | KAREN | VIBEKE
VON PAUMGARTTEN | LEILA | HOUAISS
VOORTHUIJSEN | WILLEM
VYAS | LAURENCE | MARIE
WALSH | ROBERT | P
WALTON | HEATHER | JEAN
WANG | CHULIANG
WANG | GUOFENG
WATANABE | TOMOKO
WEBER | KUNIKO | A
WEIDINGER-HOELZER | SUSANNA | L
WEINMANN | RUDOLF | M
WEISS | ANTONIA | SOPHIE
WEISS | SILKE
WEISS | THORSTEN
WILKERSON | KYOKO | TAKASHI
WORTHINGTON | IAN
YANAGIMOTO | HIROYUKI

Dated: January 21, 2022.
Steven B. Levine,
Manager Team 1940, CDSC—Compliance Support, Development & Communications.

[FR Doc. 2022-01510 Filed 1-25-22; 8:45 am]

BILLING CODE P